DEPARTMENT OF AGRICULTURE

Forest Service

Lolo National Forest; MT; Cedar-Thom EIS

AGENCY: Forest Service, USDA.

ACTION: Notice of Intent to prepare an Environmental Impact Statement.

SUMMARY: The Forest Service will prepare an environmental impact statement (EIS) on a proposal to implement restoration activities, fuel reduction treatments, and recreation enhancements within the Cedar and Thompson Creek drainages, Lolo National Forest, Superior Ranger District, Mineral County, Montana.

This EIS will tier to the Lolo National Forest Plan Final EIS (April 1986).

DATES: Comments concerning the scope of the analysis must be received by no later than 30 days from date of publication of this notice in the Federal Register. The draft environmental impact statement is expected July 2010 and the final environmental impact statement is expected March 2011.

ADDRESSES: Send written comments to: Cedar-Thom Project Leader, USDA Forest Service, P.O. Box 429, Plains, Montana 59859. Comments may also be sent via e-mail to: comments-northern-lolo-superior@fs.fed.us.

Comments received in response to this solicitation, including names and addresses of those who comment, will be part of the public record for this proposed action.

FOR FURTHER INFORMATION CONTACT: Pat Partyka, Project Leader, (406) 826-4314.

Individuals who use telecommunication devices for the deaf (TDD) may call the Federal Information Relay Service (FIRS) at 1-800-877-8339 between 8 a.m. and 8 p.m., Eastern Time, Monday through Friday.

SUPPLEMENTARY INFORMATION:

Purpose and Need for Action

The Lolo National Forest Plan, 1986, provides overall guidance for land management activities in the project area. The purposes of the Cedar-Thom project are to: (1) Restore vegetative conditions that are resistant to undesirable effects of fire, insects, disease, and drought; (2) Reduce forest fuels in wildland urban interface (WUI) and non-WUI areas and re-establish fire as a disturbance process on the landscape; (3) Improve or maintain big game winter range; (4) Enhance watershed health with improvements to fish habitat and stream function; and (5) Enhance recreation opportunities and establish trail travel management designations consistent with land management objectives.

Proposed Action

The Cedar-Thom project area of approximately 58,000 acres is located southwest of Superior, Montana within TI5N, R27W; TI5N, R28W; TI6N, R27W; TI6N, R28W; TI7N, R26W; T 1 7N, R27W, P.M.M. Within this area, the Lolo National Forest proposes the following activities to achieve the purpose and need for the project: (1) Timber harvest on approximately 6758 acres; (2) non-commercial mechanical vegetation treatments on about 2290 acres; (3) Prescribed burning on approximately 9550 acres; (4) temporary road construction (5 miles) and long-term specified road construction (6 miles); (5) Road decommissioning (116 miles), road storage (9 miles), and gate closure (6 miles); (6) Culvert replacements; (7) Restoration of selected stream segments; (8) Riparian vegetation planting; (9) Removal of a 500-foot segment of historic railroad grade that infringes on Cedar Creek; (10) Roadside weed spraying; (11) Development of an 8-mile ATV trail using primarily existing road prisms; (12) Construction of an equestrian trailhead for the Thompson Creek trail (#173); (13) Construction of a non-motorized trail from Mink Peak to Lost Lake; and (14) Change the travel management status on trails that are currently designated as both motorized and non-motorized to non-motorized only.

If, after the completion of the environmental analysis and review of public comments the Responsible Official decides to select an action alternative, implementation could begin in 2012 and would continue for several years.

Nature of Decision To Be Made

The Forest Supervisor will decide whether to implement the proposed action, take an alternative action that meets the purpose and need, or take no action. The decision may include a site-specific amendment to the Lolo National Forest Plan to allow approximately 215 acres of fuel reduction treatments that would include the removal of commercial-sized trees within Management Area 11, in which the Forest Plan limits tree cutting to that required to eliminate safety hazards or permit trail construction.

Scoping Process

This notice of intent initiates the scoping process, which guides the development of the environmental impact statement. Information on the proposed action will be posted on the Forest Web site at: http://www.fs.fed.us/rl/lolo/projects/.

It is important that reviewers provide their comments at such times and in such manner that they are useful to the agency's preparation of the environmental impact statement. Therefore, comments should be provided prior to the close of the comment period and should clearly articulate the reviewer's concerns and contentions.

Dated: July 31, 2009.
Deborah L.R. Austin,
Forest Supervisor.

[FR Doc. E9-18934 Filed 8-6-09; 8:45 am]

BILLING CODE 3410-11-M